DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 5442-5444, dated February 2, 2016) is amended to reflect the reorganization of the National Institute for Occupational Safety and Health, Centers for Disease Control and Prevention.

Section C-B, Organization and Functions, is hereby amended as follows:

Delete in its entirety the title and the mission and function statements for the Statistical Support Most Efficient Organization (CCK3), Division of Surveillance, Hazard Evaluations and Field Studies (CCK).

Sherri Berger,
Chief Operating Officer, Centers for Disease Control and Prevention.

[FR Doc. 2016-11440 Filed 5-13-16; 8:45 am]

BILLING CODE 4160-18-P